DEPARTMENT OF HEALTH AND HUMAN SERVICES

National Institutes of Health

National Institute on Aging; Amended Notice of Meeting

Notice is hereby given of a change in the meeting of the National Institute on Aging Special Emphasis Panel, October 17, 2018, 09:00 a.m. to October 17, 2018, 01:00 p.m., Hyatt Regency Bethesda, One Bethesda Metro Center, 7400 Wisconsin Avenue, Bethesda, MD 20814 which was published in the Federal Register on September 20, 2018, 83 FR 47634.

The meeting notice is amended to change the date of the meeting from October 17, 2018 to October 17-18, 2018. The meeting is closed to the public.

Dated: October 17, 2018.
Melanie J. Pantoja,
Program Analyst,Office of Federal Advisory Committee Policy.

[FR Doc. 2018-23067 Filed 10-22-18; 8:45 am]

BILLING CODE 4140-01-P